DEPARTMENT OF ENERGY

Federal Energy Regulatory Commission

[Docket No. CP00-59-000]

Petal Gas Storage Company; Notice of Intent To Prepare an Environmental Assessment for the Proposed Petal Pipeline Project, and Request for Comments on Environmental Issues

January 21, 2000.

The staff of the Federal Energy Regulatory Commission (FERC or Commission) will prepare an environmental assessment (EA) that will discuss the environmental impacts of the Petal Pipeline Project, involving the construction and operation of facilities by Petal Gas Storage Company (Petal) in Forest, Jones, Jasper, and Clark Counties, Mississippi.¹ These facilities would consist of about 64.2 miles of pipeline and 35,590 horsepower (hp) of compression. The EA will be used by the Commission in its decision-making process to determine whether the project is in the public convenience and necessity.

¹ Petal's application was filed with the Commission on December 28, 1999, under Section 7 of the Natural Gas Act and Part 157 of the Commission's regulations.

If you are a landowner on Petal's proposed route and receive this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Petal provided to landowners. This fact sheet addresses a number of typical asked questions, including the use of eminent domain and how to participate in the Commission's proceedings. It is available for viewing on the FERC Internet website (www.ferc.fed.us).

This Notice of Intent (NOI) is being sent to landowners crossed by Petal's proposed route; Federal, state, and local government agencies; national elected officials; regional environmental and public interest groups; Indian tribes that might attach religious and cultural significance to historic properties in the area of potential effects; local libraries and newspapers; and the Commission's list of parties to the proceeding. Government representatives are encouraged to notify their constituents of this proposed action and encourage them to comment on their areas of concern. Additionally, with this NOI we are asking Federal, state, local, and tribal agencies with jurisdiction and/or special expertise with respect to environmental issues to cooperate with us in the preparation of the EA. These agencies may choose to participate once they have evaluated Petal's proposal relative to their agencies' responsibilities. Agencies who would like to request cooperating status should follow the instructions for filing comments described below.

Summary of the Proposed Project

Petal proposes to build new pipeline and compression facilities to transport up to 700 million cubic feet per day of natural gas from its storage field to new interconnections with Transcontinental Gas Pipe Line Company (Transco), Southern Natural Gas Company (Southern), and Destin Pipeline Company (Destin). Petal requests Commission authorization to construct, own, operate, and maintain the following facilities.

• About 55 miles of 36-inch-diameter loop ² of Petal's existing storage header at its storage field in Forrest County, near Petal, Mississippi;

² A loop is a segment of pipeline that is installed adjacent to an existing pipeline and connected to it on both ends. The loop allows more gas to be moved through the pipeline system.

• About 58.7 miles of 36-inch-diameter pipeline extending from the existing Tennessee Gas Pipeline Company (Tennessee) Meter Station near the town of Petal, Mississippi north through portions of Forrest, Jones, Jasper, and Clarke Counties, to the existing Destin Meter Station near Enterprise, Mississippi. The new pipeline would be built adjacent to existing Tennessee, Southern, and Destin pipelines;

• A new compressor station with four electric-driven units totaling 20,000 hp adjacent to Petal's existing compressor station in Forrest County, Mississippi;

• A new compressor station with four gas-driven units totaling 15,590 hp near Heidelburg, in Jasper County, Mississippi;

• Three new meter stations at interconnections with Transco in Jasper county, Mississippi, and with Southern and Destin in Clarke County, Mississippi; and

• Associated pipeline facilities, including pig traps at the Petal storage field and the new Destin Meter Station, and a total eight new block valves along the loop and main pipeline.

The general location of Petal's proposed facilities is shown on the map attached as appendix 1.³

³ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction of the proposed facilities would affect about 682 acres of land. Following construction, about 251 acres would be retained as permanent right-of-way. The remaining 431 acres of temporary work space would be restored and allowed to revert to its former use.

Petal proposes to use a typical pipeline construction right-of-way width of 75 feet, consisting of 30 feet of permanent right-of-way and 45 feet of temporary extra work space. There also would be about 92 acres used as additional temporary extra work spaces at stream, utility, and road crossings. The new compressor station near Petal, Mississippi would occupy about 4 acres and the new compression station near Heidelburg would use about 10 acres. Construction of the Transco Meter Station would use 2 acres, of which 1 acre would become the permanent site. The new meter stations at the interconnections with Southern and Destin would be built and operated within a single 2 acre parcel.

The EA Process

The National Environmental Policy Act (NEPA) requires the Commission to take into account the environmental impacts that could result from an action whenever it considers the issuance of a Certificate of Public Convenience and Necessity. NEPA also requires us ⁴ to discover and address concerns the public may have about proposals. We call this “scoping.” The main goal of the scoping process is to focus the analysis in the EA on the important environmental issues. By this NOI, the Commission requests public comments on the scope of the issues it will address in the EA. All comments received are considered during the preparation of the EA.

⁴ “Us,” “we,” and “our” refer to the environment staff of the FERC's Office of Pipeline Regulation.

Our independent analysis of the issues will be in the EA. Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of construction and operation of the proposed project. We have already identified a number of issues that we think deserve attention based on a preliminary review of the proposed facilities and the environmental information provided by Petal. This preliminary list of issues may be changed based on your comments and our analysis.

• Geology and Soils

—Potential impacts related to crossing karst terrain.

—Impacts on about 21 miles of prime farmland soils.

—Crossing about 16 miles of erosion prone soils.

• Water Resources and Wetlands

—Crossing 10 perennial streams.

—Crossing one stream classified as an impaired waterbody with limited water quality.

—Crossing 104 areas classified as “waters of the United States,” the majority of which are wetlands.

• Biological Resources

—Impacts on about 440 acres of forest or woodlands.

—Impacts on a single population of Silky Camellia, a state listed sensitive species.

—Impacts on the Gopher Tortoise, a federally listed threatened species.

• Cultural Resources

—Impacts on prehistoric and historic sites.

—Native American concerns.

• Land Use

—Impacts on crop production.

—Impacts on residential areas.

—Visual effect of the aboveground facilities on surrounding areas.

—Impacts on one rural residence within 50 feet of the proposed pipeline.

• Air and Noise Quality

—Impacts on local air quality and noise environment as a result of the operation of new compressor stations.

• Alternatives

—Evaluate possible alternatives to the proposed project or portions of the project, and make recommendations on how to lessen or avoid impacts on the various resource areas.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send two copies of your letter to: David P. Boergers, Secretary, Federal Energy Regulatory Commission, 888 First St., N.E., Room 1A, Washington, DC 20426;

• Label one copy of the comments for the attention of the Environmental Review and Compliance Branch, PR-11.1;

• Reference Docket No. CP00-59-000; and

• Mail your comments so that they will be received in Washington, DC on or before February 28, 2000.

[If you do not want to send comments at this time but still want to remain on our mailing list, please return the Information Request (appendix 3). If you do not return the Information Request, you will be removed from the environmental mailing list.]

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-1944 Filed 1-26-00; 8:45 am]

BILLING CODE 6717-01-M